FEDERAL DEPOSIT INSURANCE CORPORATION

Notice of Change in Time of Agency Meeting

Pursuant to the provisions of the “Government in the Sunshine Act” (5 U.S.C. 552b), notice is hereby given that the previously announced meeting of the Board of Directors scheduled to be held on Monday, December 10, 2001, at 2 p.m. (open session) has been rescheduled for 10 a.m. that same day.

No earlier notice of the change in time of this meeting was practicable.

Dated: December 7, 2001.
Federal Deposit Insurance Corporation.
James D. LaPierre,
Deputy Executive Secretary.

[FR Doc. 01-30925 Filed 12-11-01; 2:15 pm]

BILLING CODE 6714-01-M